DEPARTMENT OF TRANSPORTATION

Federal Aviation Administration

14 CFR Part 39

[Docket No. 2001-NE-02-AD]

RIN 2120-AA64

Airworthiness Directives; Rolls-Royce Deutschland (Formerly Rolls-Royce plc) Models Tay 650-15 and 651-54 Turbofan Engines

AGENCY: Federal Aviation Administration (FAA), DOT.

ACTION: Notice of proposed rulemaking (NPRM).

SUMMARY: The FAA proposes to supersede an existing airworthiness directive (AD) for Rolls-Royce Deutschland (formerly Rolls-Royce plc) (RRD) models Tay 650-15 and 651-54 turbofan engines. That AD currently requires borescope inspection of the high pressure compressor (HPC) stage 12 disc assembly to detect damage caused by HPC outlet guide vane (OGV) retaining bolt failure, and replacement of unserviceable parts with serviceable parts. That AD also requires as terminating action, the incorporation of a new design retention arrangement for the HPC OGV to prevent HPC OGV retaining bolt failure. This proposed AD would require the same actions but extends the terminating action compliance time for Tay 650-15 engines. This proposed AD would also include references to later revisions of two of the applicable RRD service bulletins (SBs). This proposed AD results from findings that the terminating action compliance time for Tay 650-15 engines can be extended. We are proposing this AD to prevent an uncontained failure of the HPC stage 11/12 disc spacer, which could result in damage to the airplane.

DATES: We must receive any comments on this proposed AD by September 23, 2005.

ADDRESSES: Use one of the following addresses to submit comments on this proposed AD:

• By mail: Federal Aviation Administration (FAA), New England Region, Office of the Regional Counsel, Attention: Rules Docket No. 2001-NE-02-AD, 12 New England Executive Park, Burlington, MA 01803-5299.

• By fax: (781) 238-7055.

• By e-mail: 9-ane-adcomment@faa.gov.

You can get the service information identified in this proposed AD from Rolls-Royce plc, P.O. Box 31 Derby, DE24 8BJ, United Kingdom; telephone 011-44-1332-242424; fax 011-44-1332-249936.

You may examine the AD docket, by appointment, at the FAA, New England Region, Office of the Regional Counsel, 12 New England Executive Park, Burlington, MA.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION:

Comments Invited

We invite you to submit any written relevant data, views, or arguments regarding this proposal. Send your comments to an address listed under ADDRESSES. Include “AD Docket No. 2001-NE-02-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

Examining the AD Docket

You may examine the AD Docket (including any comments and service information), by appointment, between 8 a.m. and 4:30 p.m., Monday through Friday, except Federal holidays. See ADDRESSES for the location.

Discussion

On January 18, 2002, the FAA issued AD 2002-01-29, Amendment 39-12624 (67 FR 4652, January 31, 2002). That AD requires borescope inspection of the HPC stage 12 disc assembly to detect damage caused by HPC OGV retaining bolt failure, and replacement of unserviceable parts with serviceable parts. That AD also requires as terminating action, the incorporation of a new design retention arrangement for the HPC OGV, to prevent HPC OGV retaining bolt failure.

Actions Since AD 2002-01-29 Was Issued

Since we issued AD 2002-01-29, the FAA and the Luftfhart Bundesamt (LBA), which is the airworthiness authority for Germany, reassessed the time period allowed for incorporation of the terminating action compliance time for Tay 650-15 engines. Part of that reassessment takes into consideration the major reduction in flying time of the Tay 650-15 airliner fleet, since September 11, 2001. The FAA and LBA concluded that the terminating action compliance time for the Tay 650-15 engines can be safely extended by 25 months.

Special Flight Permits Paragraph Removed

Paragraph (f) of the current AD, AD 2002-01-29, contains a paragraph pertaining to special flight permits. Even though this proposed AD does not contain a similar paragraph, we have made no changes with regard to the use of special flight permits to operate the airplane to a repair facility to do the work required by this AD. In July 2002, we published a new part 39 that contains a general authority regarding special flight permits and airworthiness directives; see Docket No. FAA-2004-8460, Amendment 39-9474 (69 FR 47998, July 22, 2002). Thus, when we now supersede ADs we will not include a specific paragraph on special flight permits unless we want to limit the use of that general authority granted in section 39.23.

Relevant Service Information

We have reviewed and approved the technical contents of RRD SB No. TAY-72-1498, Revision 2, dated December 31, 2004. That SB describes procedures for installing new design retaining and locking hardware for the HPC OGV and outer seal housing assembly. The LBA classified this service bulletin as mandatory and issued AD D-2004-365, dated January 31, 2005, in order to ensure the airworthiness of these RRD engines in Germany.

Bilateral Agreement Information

This engine model is manufactured in Germany and is type certificated for operation in the United States under the provisions of Section 21.29 of the Federal Aviation Regulations (14 CFR 21.29) and the applicable bilateral airworthiness agreement. In keeping with this bilateral airworthiness agreement, the LBA has kept the FAA informed of the situation described above. We have examined the findings of the LBA, reviewed all available information, and determined that AD action is necessary for products of this type design that are certificated for operation in the United States.

FAA's Determination and Requirements of the Proposed AD

We have evaluated all pertinent information and identified an unsafe condition that is likely to exist or develop on other products of this same type design. Therefore, we are proposing this AD, which would require:

• Initial and repetitive borescope inspections of the stage 12 rotor disc assembly for damage due to failed HPC OGV retaining bolts, and removal of engine from service if damage is observed on the stage 12 rotor disc.

• As terminating action to the repetitive inspections, removal from service of existing HPT rotor inner seal support assembly, HP compressor outlet guide vane (5-span), HP compressor outlet guide vane (6-span), HP rotor thrust bearing housing assembly, and diffuser case assembly.

The proposed AD would require that you do these actions using the service information described previously.

Costs of Compliance

There are about 400 Tay 650-15 and 651-54 turbofan engines of the affected design in the worldwide fleet. We estimate that 105 engines installed on airplanes of U.S. registry would be affected by this proposed AD. We also estimate that it would take about 3 work hours per engine to perform the proposed borescope inspection, and that the average labor rate is $65 per work hour. Required parts would cost about $3,200 per engine. We estimate that one third of the engines will have the parts replaced at time of engine overhaul. We also estimate that one third of the engines will have the parts replaced during an engine mid-life shop visit. We also estimate that one third of the engines will have the parts replaced at an engine shop visit dedicated for these parts replacements, at a cost of about $90,000 per engine. Based on these figures, we estimate the total cost of the proposed AD to U.S. operators to be $3,600,000.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2001-NE-02-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12624 (67 FR 4652, January 31, 2002) and by adding a new airworthiness directive, to read as follows:

Rolls-Royce Deutschland (formerly Rolls-Royce plc): Docket No. 2001-NE-02-AD.

Comments Due Date

(a) The Federal Aviation Administration (FAA) must receive comments on this airworthiness directive (AD) action by September 23, 2005.

Affected ADs

(b) This AD supersedes AD 2002-01-29, Amendment 39-12624.

Applicability

(c) This AD applies to Rolls-Royce Deutschland (formerly Rolls-Royce plc) (RRD) models Tay 650-15 and 651-54 turbofan engines with high pressure compressor (HPC) outlet guide vane (OGV) retaining bolts part numbers (P/Ns) BLT3602, DU909, and DU818 installed. These engines are installed on, but not limited to Boeing 727 and Fokker F.28 Mark 0100 airplanes.

Unsafe Condition

(d) This AD results from RRD relaxing the terminating action compliance time for Tay 650-15 engines due to reassessment by RRD. We are proposing this AD to prevent an uncontained failure of the HPC stage 11/12 disc spacer, which could result in damage to the airplane.

Compliance

(e) You are responsible for having the actions required by this AD performed within the compliance times specified unless the actions have already been done.

Initial Inspection

(f) Perform a borescope inspection of the rear side of the stage 12 rotor disc at or before accumulating 8,000 cycles-since-new on the OGV retaining bolts, or within 30 days from the effective date of this AD, whichever occurs later. Use paragraph 3.A.(1) of the Accomplishment Instructions of RRD Mandatory Service Bulletin (MSB) Tay-72-1483, Revision 2, dated October 20, 2000, to do the inspection. If damage is observed on the stage 12 rotor disc, remove the engine from service.

Repetitive Inspections

(g) Thereafter, perform repetitive borescope inspections of the rear side of the stage 12 rotor disc no earlier than 1,800 and no later than 2,200 cycles-since-last-inspection, or no later than 18 months since-last-inspection, whichever occurs first. Use paragraph 3.A.(1) of the Accomplishment Instructions of RRD MSB Tay-72-1483, Revision 2, dated October 20, 2000, to do the inspections. If damage is observed on the stage 12 rotor disc, remove the engine from service.

OGV Retaining Bolt Replacement

(h) For engines that had OGV bolts replaced with new bolts P/Ns BLT3602, DU909, and DU818 as specified in RRD SB Tay-72-1484, dated November 15, 1999, or Revision 1, dated December 17, 1999, the initial and repetitive inspection requirements, based on engine cycles-since-bolt installation, are the same as specified in paragraphs (f) and (g) of this AD.

Terminating Action

(i) As terminating action for the inspections required by this AD, do the following:

(1) Before November 1, 2007 for Tay 650-15 engines, and before October 1, 2012 for Tay 651-54 engines, remove from service the parts listed in the following Table 1:

Table 1.—Parts To Be Removed From Service
Part No. | Part name
JR12314A | HPT Rotor Inner Seal Support Assembly.
EU57842A | HP Compressor Outlet Guide Vane 5-Span.
EU57843A | HP Compressor Outlet Guide Vane 6-Span.
JR30962A | HP Rotor Thrust Bearing Housing Assembly.
JR30568A | Diffuser Case Assembly.
KB7106 | Tab Washer.
EU12042 | Retaining Lock Plate.
DU818 | Hex Head Bolt.

(2) Information on removing these parts from service can be found in RRD MSB Tay-72-1498, dated October 20, 2000, or RRD MSB Tay-72-1498, Revision 1, dated December 1, 2000, or RRD SB Tay-72-1498, Revision 2, dated December 31, 2004.

(j) After performing the actions specified in paragraph (i) of this AD, the inspections specified in paragraphs (f) through (h) of this AD are no longer required.

Alternative Methods of Compliance

(k) The Manager, Engine Certification Office, has the authority to approve alternative methods of compliance for this AD if requested using the procedures found in 14 CFR 39.19.

Related Information

(l) Luftfhart Bundesamt airworthiness directive D-2004-365, dated January 31, 2005, also addresses the subject of this AD.

Issued in Burlington, Massachusetts, on July 18, 2005.
Jay J. Pardee,
Manager, Engine and Propeller Directorate, Aircraft Certification Service.

[FR Doc. 05-14574 Filed 7-22-05; 8:45 am]

BILLING CODE 4910-13-P